DEPARTMENT OF ENERGY

Federal Energy Regulatory Commission

[Project No.2067-019]

Oakdale and South San Joaquin Irrigation Districts; Notice of Availability of Environmental Assessment

May 21, 2003.

In accordance with the National Environmental Policy Act of 1969 and the Federal Energy Regulatory Commission's (Commission) regulations, 18 CFR part 380 (Order No. 486, 52 FR 47897), the Office of Energy Projects' staff has prepared an Environmental Assessment (EA) for an application requesting Commission approval to allow Merle and Beverly Holman use of project lands and waters to develop a commercial public access area located at the Tulloch Hydroelectric Project. The project is located on the Stanislaus River in Calaveras and Tuolumne Counties, California. The subject land does not involve federal or tribal lands.

The EA contains the staff's analysis of the potential environmental impacts of the proposal and concludes that approval of the proposal would not constitute a major federal action that would significantly affect the quality of the human environment.

A copy of the EA is available for review at the Commission in the Public Reference Room, or it may be viewed on the Commission's Web site at http://www.ferc.gov using the “FERRIS” link. Enter the docket number (prefaced by P-) and excluding the last three digits, in the docket number field to access the document. For assistance, call contact FERC Online Support at FERCOnlineSupport@ferc.gov or toll-free at (866) 208-3676, or TTY, contact (202)502-8659.

For further information, contact Jean Potvin at 202-502-8928.

Magalie R. Salas,
Secretary.

[FR Doc. 03-13292 Filed 5-28-03; 8:45 am]

BILLING CODE 6717-01-P